DEPARTMENT OF COMMERCE

National Oceanic and Atmospheric Administration

50 CFR Part 622

[Docket No. 060425111-6315-03; I.D. 041906B]

RIN 0648-AN09

Fisheries of the Caribbean, Gulf of Mexico, and South Atlantic; Reef Fish Fishery of the Gulf of Mexico; Vessel Monitoring Systems; Amendment 18A

AGENCY: National Marine Fisheries Service (NMFS), National Oceanic and Atmospheric Administration (NOAA), Commerce.

ACTION: Final rule; delay of effective date.

SUMMARY: NMFS delays the December 7, 2006, effective date of two sections of a final rule, published August 9, 2006, until March 7, 2007. The amendments to those sections will require owners/operators of vessels with Gulf reef fish commercial vessel permits to install a NMFS-approved vessel monitoring system (VMS) and will make installation of VMS a prerequisite for permit renewal or transfer. This delay of the effective date will provide additional time for affected fishers to come into compliance with the VMS requirements.

DATES: The effective date of the amendments to §§ 622.9(a)(2) and 622.4(m)(1) published August 9, 2006 (71 FR 45428), is delayed until March 7, 2007.

ADDRESSES: Comments regarding the burden-hour estimates or other aspects of the collection-of-information requirements referred to in this final rule may be submitted in writing to Jason Rueter, NMFS, Southeast Regional Office, 263 13th Avenue South, St. Petersburg, FL 33701; telephone 727-824-5305; fax 727-824-5308; e-mail Jason.Rueter@noaa.gov and to David Rostker, Office of Management and Budget (OMB), by e-mail at David_Rostker@omb.eop.gov, or by fax to 202-395-7285.

FOR FURTHER INFORMATION CONTACT: Peter Hood, telephone 727-824-5305, fax 727-824-5308, e-mail Peter.Hood@noaa.gov.

SUPPLEMENTARY INFORMATION:

Background

The final rule to implement Amendment 18A to the Fishery Management Plan for the Reef Fish Resources of the Gulf of Mexico (Amendment 18A) (71 FR 45428, August 9, 2006) included a provision, § 622.9(a)(2), requiring owners or operators of a vessel with a commercial vessel permit for Gulf reef fish, including charter/headboats with commercial reef fish vessel permits even when under charter, to be equipped with an operating VMS approved by NMFS for the Gulf of Mexico reef fish fishery. Additionally, § 622.4(m)(1) required proof of purchase, installation, activation, and operational status of an approved VMS for renewal or transfer of a commercial vessel permit for Gulf reef fish.

Subsequent to the publication of the final rule, NMFS published a notice listing VMS approved by NMFS for use in the Gulf reef fish fishery (71 FR 54472, September 15, 2006). On October 31, 2006, NMFS published a notice (71 FR 63753), announcing availability of grant funds to reimburse owners and operators of vessels subject to the VMS requirements of Amendment 18A for the equivalent cost of purchasing the least expensive VMS approved by NMFS for the Gulf reef fish fishery.

Delay of Effective Date

NMFS is delaying, until March 7, 2007, the effective date of § 622.9(a)(2), the VMS requirement, and § 622.4(m)(1), the provision requiring VMS as a condition of renewing or transferring a commercial vessel permit for Gulf reef fish. NMFS is concerned that some fishers may have delayed purchasing VMS because of uncertainty regarding reimbursement by NMFS. Although NMFS published the notice announcing availability of funds for reimbursement on October 31, 2006, the current December 7, 2006, effective date for VMS compliance may not provide adequate time for all affected fishers and approved VMS vendors to purchase, install, and activate a NMFS-approved VMS. NMFS also believes that some affected fishers, particularly those with minimal red snapper or reef fish landings, may be deferring a decision on purchasing a VMS until they receive information about their initial red snapper IFQ share and allocation under the Gulf red snapper IFQ program and, thus, can better evaluate their overall profitability versus the overall costs of VMS. NMFS anticipates that initial red snapper IFQ share/allocation information will be available by mid-November—less than a month prior to the current effective date for the VMS requirements. Finally, the overall VMS costs, including installation and continuing operational costs, may be a factor in some part-time or marginal reef fish fishers' decision to remain in the fishery. A delay in the effective date of the provision requiring VMS as a condition of permit renewal or transfer would provide more time for such fishers to make a reasoned business decision and to renew and/or transfer their permit prior to the VMS effective date if they so choose. For all of these reasons, NMFS is delaying the effective date of §§ 622.9(a)(2) and 622.4(m)(1) until March 7, 2007.

Classification

The Administrator, Southeast Region, NMFS, (RA) has determined that delaying the effective date of VMS requirements for vessels with commercial vessel permits for Gulf reef fish is necessary for management of the fishery and to minimize adverse social and economic impacts. The RA has also determined that this rule is consistent with the Magnuson-Stevens Fishery Conservation and Management Act and other applicable laws.

This final rule has been determined to be not significant for purposes of Executive Order 12866.

Pursuant to 5 U.S.C. 533(b)(B), there is good cause to waive prior notice and opportunity for public comment on this action as notice and comment would be impracticable and contrary to the public interest. This final rule merely delays the effective date of the VMS requirements and VMS-related permit renewal requirements set forth in the regulations implementing Amendment 18A. Delaying the effective date of these provisions will provide affected vessel owners and operators additional time to come into compliance with the VMS requirements. Some owners and operators may have delayed purchase and installation of required VMS units because of uncertainty regarding possible reimbursement by NMFS. NMFS has recently implemented a reimbursement program applicable to these VMS requirements. Delaying the effective date will allow affected owners and operators more time to make an informed business decision regarding which approved VMS system would be best for them given the available reimbursement. In addition, those owners and operators with relatively small landings of reef fish, including red snapper landings, may need to consider the overall costs of VMS, including installation and operating costs, relative to the owner's profitability, including their potential red snapper individual fishing quota (IFQ) share and allocation under the proposed red snapper IFQ program. Some of these fishers may choose to sell their commercial vessel permit for Gulf reef fish and exit the fishery. Delaying the effective date of the provision that requires a VMS as a condition of renewing or transferring a permit would facilitate that option. A delay in the effective date of these two provisions will provide such owners and operators more time to make well-reasoned business decisions regarding overall VMS costs and their future in the reef fish fishery. For these same reasons, there is good cause to waive the 30-day delayed effectiveness provision of the APA for these measures pursuant to 5 U.S.C. 553(d)(3). Failure to waive prior notice and opportunity for public comment or failure to waive the 30-day delayed effectiveness provision of the APA for these measures would result in these measures becoming effective on December 7, 2006, rather than providing affected fishers additional time to come into compliance with these measures as intended by this rule.

This final rule is exempt from the procedures of the Regulatory Flexibility Act because the rule is issued without opportunity for prior notice and opportunity for public comment.

This rule refers to collection-of-information requirements subject to the Paperwork Reduction Act (PRA) and which have been approved by OMB under Control Number 0648-0544. Public reporting for these requirements is estimated to average 4 hours for VMS installation, 15 minutes for completion and submission of certification of VMS installation and activation, 24 seconds for transmission of position reports, 2 hours for annual maintenance of VMS, 10 minutes for submission of requests for power-down exemptions, and 15 minutes for annual renewal of all permits. These estimates include the time for reviewing instructions, searching existing data sources, gathering and maintaining the data needed, and completing and reviewing the collection of information. Send comments regarding these burden estimates or any other aspect of this data collection, including suggestions for reducing burden hours, to NMFS (see ADDRESSES) and by e-mail to David_Rostker@omb.eop.gov, or fax to 202-395-7285.

Notwithstanding any other provision of law, no person is required to respond to, and no person shall be subject to penalty for failure to comply with, a collection of information subject to the requirements of the PRA, unless that collection of information displays a currently valid OMB control number.

Authority: 16 U.S.C. 1801 et seq.

Dated: December 1, 2006.
Samuel D. Rauch III,
Deputy Assistant Administrator for Regulatory Programs, National Marine Fisheries Service.

[FR Doc. 06-9570 Filed 12-4-06; 1:11 pm]

BILLING CODE 3510-22-P